DEPARTMENT OF HOMELAND SECURITY

Coast Guard

[USCG-2006-24851]

Proposed Decommissioning and Excessing of the USCGC STORIS (WMEC-38) and USCGC ACUSHNET (WMEC-167); Preparation of Environmental Assessment

AGENCY: Coast Guard, DHS.

ACTION: Notice of preparation of environmental assessment; request for comments.

SUMMARY: The U.S. Coast Guard (USCG) announces its intent to prepare an environmental assessment (EA) on the proposed decommissioning and excessing of the U.S. Coast Guard Cutter (USCGC) STORIS (WMEC-38), homeported in Kodiak, AK, and USCGC ACUSHNET (WMEC-167), homeported in Ketchikan, AK. This notice provides information on the proposed action, requests public comments on environmental impacts that might occur from the proposed action, and provides instructions on how to submit comments to the USCG.

DATES: Comments and related material must reach the Coast Guard on or before June 23, 2006.

ADDRESSES: You may submit comments identified by Coast Guard docket number USCG-2006-24851 to the Docket Management Facility at the U.S. Department of Transportation. To avoid duplication, please use only one of the following methods:

(1) Web site: http://dms.dot.gov.

(2) Mail: Docket Management Facility, U.S. Department of Transportation, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

FOR FURTHER INFORMATION CONTACT: If you have questions on this notice, call Ms. Susan Hathaway, USCG, telephone: 202-267-4073,or send e-mail to: shathaway@comdt.uscg.mil. If you have questions on viewing or submitting material to the docket, call Renee V. Wright, Program Manager, Docket Operations, telephone 202-493-0402.

SUPPLEMENTARY INFORMATION:

Request for Comments

We request public comments or other relevant information on environmental issues related to the proposed decommissioning and excessing of the USCGC STORIS (WMEC-38) and USCGC ACUSHNET (WMEC-167).

All comments received will be posted, without change, to http://dms.dot.gov and will include any personal information you have provided. We have an agreement with the Department of Transportation (DOT) to use the Docket Management Facility. Please see DOT's “Privacy Act” paragraph below.

Submitting comments: If you submit a comment, please include your name and address, identify the docket number for this notice (USCG-2006-24851) and give the reason for each comment. You may submit your comments by electronic means, mail, fax, or delivery to the Docket Management Facility at the address under ADDRESSES; but please submit your comments by only one means. If you submit them by mail or delivery, submit them in an unbound format, no larger than 8½ by 11 inches, suitable for copying and electronic filing. If you submit them by mail and would like to know that they reached the Facility, please enclose a stamped, self-addressed postcard or envelope. We will consider all comments received during the comment period.

Viewing comments and documents: To view comments, go to http://dms.dot.gov at any time, click on “Simple Search,” enter the last five digits of the docket number for this notice, and click on “Search.” You may also visit the Docket Management Facility in room PL-401 on the Plaza level of the Nassif Building, 400 Seventh Street, SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Background

Preparation of the EA is being conducted in accordance with the National Environmental Policy Act (NEPA) of 1969, 42 U.S.C. 4332(C) and its implementing regulations at Title 40, Code of Federal Regulations, Part 1500. USCGC STORIS (WMEC-38) was constructed in 1942 for patrol along Greenland's waters during WWII and was the first U.S. registered vessel to circumnavigate the North American continent.

The USCGC ACUSHNET (WMEC-167) was commissioned in Napa, California, on February 5, 1943, as the Fleet Rescue and Salvage Vessel USS SHACKLE (ARS-9). The USS SHACKLE (ARS-9) served for two years as a U.S. Navy vessel in defense of the United States, earning three battle stars. The USS SHACKLE's (ARS-9) first station was at Pearl Harbor, Hawaii, serving as a salvage ship in the West Pacific for the remainder of World War II. On August 23, 1946, the USS SHACKLE (ARS-9) was commissioned into the USCG as USCGC ACUSHNET (WAT-167).

USCGC ACUSHNET (WMEC-167) is the second oldest medium endurance vessel in the fleet (the oldest being the USCGC STORIS (WMEC-38)). After more than 60 years of continuous service, USCGC STORIS (WMEC-38) and USCGC ACUSHNET (WMEC-167) have become increasingly costly to support. Excessive maintenance problems stemming from the age of the vessels result in reduced reliability and increased operating costs. The vessels have reached the end of their service lives. The USCG intends to decommission and then to report both vessels as excess personal property to the U.S. General Services Administration (GSA), an independent Federal agency responsible for property management and utilization government-wide. Ultimately, the vessels may be disposed through either the GSA personal property disposal process or another statutorily authorized personal property disposal process.

Possible disposal outcomes include, but are not limited to, transfer of one or both vessels to another Federal agency, conveyance to a State or local government or other non-Federal entity, transfer to a foreign government, or scrapping.

The EA will address the potential environmental impacts of the vessels' decommissioning and disposal. The EA will consider the various alternatives to the proposed action, including but not limited to, keeping the vessels in a commissioned status (i.e., the “no action” alternative) or disposal of the vessels through the GSA or other disposal process. The EA will also address potential impacts of connected actions, including replacement of the USCGC STORIS (WMEC-38) and USCGC ACUSHNET (WMEC-167).

You can address any questions about the proposed action or the EA to the USCG representative identified in FOR FURTHER INFORMATION CONTACT.

After receiving public comments, the USCG will prepare an EA and we will publish a Federal Register notice announcing its public availability. (If you want that notice to be sent to you, please contact the USCG representative identified in FOR FURTHER INFORMATION CONTACT.) You will have an opportunity to review and comment on the EA.

Wayne E. Justice,
RDML, U.S. Coast Guard, Director of Enforcement and Incident Management.

[FR Doc. E6-7864 Filed 5-23-06; 8:45 am]

BILLING CODE 4910-15-P